INTERNATIONAL TRADE COMMISSION

[Inv. No. 337-TA-434]

Certain Magnetic Resonance Injection Systems and Components Thereof; Notice of Decision To Extend the Deadline for Determining Whether To Review an Initial Determination Granting a Motion for Summary Determination of Invalidity

AGENCY: International Trade Commission.

ACTION: Notice.

SUMMARY: Notice is hereby given that the U.S. International Trade Commission has determined to extend by forty (40) days, or until December 6, 2000, the deadline for determining whether to review an initial determination (ID) (Order No. 16) issued by the presiding administrative law judge (ALJ) in the above-captioned investigation.

FOR FURTHER INFORMATION CONTACT: Jean Jackson, Esq., Office of the General Counsel, U.S. International Trade Commission, 500 E Street, SW., Washington, DC 20436, telephone (202) 205-3104. Hearing-impaired persons are advised that information on this matter can be obtained by contacting the Commission's TDD terminal on 202-205-1810. General information concerning the Commission may also be obtained by accessing its Internet server (http://www.usitc.gov).

SUPPLEMENTARY INFORMATION: The Commission instituted this investigation on May 26, 2000, based on a complaint filed by Medrad, Inc. of Indianola, Pennsylvania. The complaint alleged a violation of section 337 of the Tariff Act of 1930, 337 U.S.C. 1337, based on infringement of U.S. Letters Patent Re. 36,648, (the ’648 patent) owned by complainant. The respondents named in the investigation are Nemoto Kyorindo Co., Ltd. of Tokyo, Japan; Liebel-Flarshiem Co. of Cincinnati Ohio; and Mallinckrodt Inc., a New York corporation based in Hazelwood, Mo. 65 Fed. Reg. 34231. On September 26, 2000, the ALJ issued an ID finding the '648 patent invalid due to certain omissions that occurred during patent reissue proceedings at the U.S. Patent and Trademark Office.

This action is taken under the authority of section 337 of the Tariff Act of 1930, 19 U.S.C. 1337, and section 210.42(h)(3) of the Commission of Practice and Procedure, 19 C.F.R. 210.42(h)(3).

Copies of the nonconfidential version of the ID and all other nonconfidential documents filed in connection with this investigation are or will be available for inspection during official business hours (8:45 a.m. to 5:15 p.m.) in the Office of the Secretary, U.S. International Trade Commission, 500 E Street SW., Washington, DC 20436, telephone 202-205-2000. Hearing impaired persons are advised that information on this matter can be obtained by contacting the Commission TDD terminal on 202-205-1810.

Issued: October 16, 2000.
By order of the Commission.
Donna R. Koehnke,
Secretary.

[FR Doc. 00-27055 Filed 10-19-00; 8:45 am]

BILLING CODE 7020-02-P